DEPARTMENT OF COMMERCE

National Oceanic and Atmospheric Administration

[I.D. 042905A]

New England Fishery Management Council; Public Meetings

AGENCY: National Marine Fisheries Service (NMFS), National Oceanic and Atmospheric Administration (NOAA), Commerce

ACTION: Notice of public meetings.

SUMMARY: The New England Fishery Management Council (Council) is scheduling a public meeting of its Groundfish Oversight Committee in May, 2005. Recommendations from the committee will be brought to the full Council for formal consideration and action, if appropriate.

DATES: The 2-day meeting will held on May 23, 2005, at 9:30 a.m. and May 24, 2005, at 8:30 a.m.

ADDRESSES: The meeting will be held at the Holiday Inn, 31 Hampshire Street, Mansfield, MA 02048; telephone: (508) 339-2200.

FOR FURTHER INFORMATION CONTACT: Paul J. Howard, Executive Director, New England Fishery Management Council (978) 465-0492. Requests for special accommodations should be addressed to the New England Fishery Management Council, 50 Water Street, Newburyport, MA 01950; telephone: (978) 465-0492.

SUPPLEMENTARY INFORMATION: The Groundfish Oversight Committee will hold a 2-day meeting to identify measures for the biennial adjustment to the Northeast Multispecies Fishery Management Plan. The schedule for this meeting is shown below. Members of the public are cautioned that the Committee may deviate from this schedule, if necessary, in order to complete its work. While the Committee will make every effort to adhere to the agenda, topics may be discussed at different times, or on different days, than planned.

Tentatively identified as Framework Adjustment 42, the biennial adjustment will consider a number of groundfish management issues, including any changes to measures necessary to achieve Amendment 13 mortality objectives, revisions to existing Special Access Programs (SAPs), a review of the days-at-sea (DAS) leasing program, a review of the Category B (regular) DAS Pilot Projects, and other issues. The Council will review Committee recommendations at an initial framework meeting that will be held at the June 21-23, 2005 Council meeting. Final decisions by the Council will take place at the November 15-17, 2005 Council meeting. If approved, management measures are scheduled to be implemented on May 1, 2006.

Monday, May 23, 2005: Modifications to existing SAPs (such as changing the time, error, or haddock catch in the Closed Area I Hook Gear Haddock SAP, changing measures in the Eastern US/CA Haddock SAP and the Closed Area II yellowtail flounder SAP, etc.), options for the DAS leasing program, receipt of a report on the recently held meetings to address safety in the groundfish fishery, and review of draft management measures already approved by the Council for inclusion in this action.

Tuesday, May 24, 2005: Consideration of options for addressing the concern that vessels fishing with handgear while using DAS could not meet the qualification criteria for DAS allocations under Amendment 13, recommendations to reduce bycatch of haddock, a proposal for a gillnet sector, and a preliminary review of landings statistics for calendar and fishing year 2005 (if available).

Other business may be discussed by the Committee if time is available.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: April 29, 2005.
Peter H. Fricke,
Acting Director, Office of Sustainable Fisheries, National Marine Fisheries Service.

[FR Doc. 05-8859 Filed 5-3-05; 8:45 am]

BILLING CODE 3510-22-S